DEPARTMENT OF THE INTERIOR

Fish and Wildlife Service

Aquatic Nuisance Species Task Force Ballast Water and Shipping Committee Meeting

AGENCY: Fish and Wildlife Service, Interior.

ACTION: Notice of Meeting.

SUMMARY: This notice announces a meeting of the Ballast Water and Shipping Committee of the Aquatic Nuisance Species Task Force. The meeting topics are identified in the SUPPLEMENTARY INFORMATION:

DATES: The Committee will meet from 9 a.m. to 4 p.m., Tuesday, November 21, 2000.

ADDRESSES: The meeting will be held at the National Oceanic Atmospheric Administration (NOAA) complex, SSMC-II, Room 2358, 1305 East West Highway, Silver Spring, Maryland 20910.

FOR FURTHER INFORMATION CONTACT: LT Mary Pat McKeown, U.S. Coast Guard, Chair, Ballast Water and Shipping Committee, at 202-267-0500 or by email at mmckeown@comdt.uscg.mil or Sharon Gross, Executive Secretary, Aquatic Nuisance Species Task Force at 703-358-2308 or by e-mail at: sharon_gross@fws.gov

SUPPLEMENTARY INFORMATION: Pursuant to section 10(a)(2) of the Federal Advisory Committee Act (5 U.S.C. App.I), this notice announces a meeting of the Aquatic Nuisance Species Task Force Ballast Water and Shipping Committee. The Task Force was established by the Nonindigenous Aquatic Nuisance Prevention and Control Act of 1990 (16 U.S.C. 4701-4741). Topics to be addressed at this meeting include: continued discussion on the development of standards for ballast water; discussion on membership of the committee including addition of new members; and discussion and recommendations for committee vision and goals.

Minutes of the meeting will be maintained by the Executive Secretary, Aquatic Nuisance Species Task Force, Suite 851, 4401 North Fairfax Drive, Arlington, Virginia 22203-1622, and the Chair of the Ballast Water and Shipping Committee at the Environmental Standards Division, Office of Operations and Environmental Standards, U.S. Coast Guard (G-MSO-4), 2100 Second Street, SW, room 1309, Washington, DC 20593-0001. Minutes for the meetings will be available at these locations for public inspection during regular business hours, Monday through Friday.

Dated: November 2, 2000.
Cathleen I. Short,
Co-Chair, Aquatic Nuisance Species Task Force, Assistant Director—Fisheries.

[FR Doc. 00-28508 Filed 11-6-00; 8:45 am]

BILLING CODE 4310-55-M